DEPARTMENT OF HEALTH AND HUMAN SERVICES

National Institutes of Health

Proposed Collection; 60-Day Comment Request; Evaluation of the NIH Academic Research Enhancement Award (NIH OD)

Summary: In compliance with the requirement of Section 3506(c)(2)(A) of the Paperwork Reduction Act of 1995, for opportunity for public comment on proposed data collection projects, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology.

To Submit Comments and for Further Information: To obtain a copy of the data collection plans and instruments, submit comments in writing, or request more information on the proposed project, contact: Michelle M. Timmerman, Ph.D., Director, AREA Program, Office of the Director, National Institutes of Health, 6705 Rockledge Drive, Bethesda, Maryland 20892; or call non-toll-free number 301-402-0672; or email your request, including your address to michelle.timmerman@mail.nih.gov. Formal requests for additional plans and instruments must be requested in writing.

Comment Due Date: Comments regarding this information collection are best assured of having their full effect if received within 60 days of the date of this publication.

Proposed Collection: Evaluation of the NIH Academic Research Enhancement Award, 0925-New, Office of the Director (OD), National Institutes of Health (NIH).

Need and Use of Information Collection: The Academic Research Enhancement Award (AREA) Program is a grant mechanism spanning most of the Institutes and Centers (ICs) of the National Institutes of Health (NIH). The AREA program was established by Congress in 1985 to provide support to scientists at public and private colleges and universities that receive relatively small amounts of NIH funding. The purpose of the program is to support meritorious research, expose undergraduate and graduate students to research, and strengthen the research environment of the institutions receiving the grants. In the past three years alone, the federal government has awarded approximately 78 million dollars annually in AREA grants. The evaluation will allow the NIH and Congress to assess the extent to which the AREA program is meeting its goals and make recommendations so that this significant investment of public funds may be used as effectively as possible.

The evaluation will utilize the NIH's archived data on grants, institutions, Principal Investigators (PIs), and students funded with AREA monies. The evaluation will collect new data about (1) the quantity and quality of student participation in AREA projects, (2) records of PIs' subsequent funding histories, (3) applicants' experiences with the application process, (4) PIs' experiences implementing AREA Program objectives, and (5) the impact of AREA Program research participation on student career paths and outcomes.

The results of the evaluation will indicate the extent to which the AREA Program is meeting its goals of supporting meritorious research, strengthening the research environment at institutions of higher education that are not research intensive, and recruiting and training subsequent generations of the United States' biomedical scientist workforce. Intended audiences include the United States Congress, staff at NIH ICs that make AREA awards, and staff of the NIHOD.

OMB approval is requested for one year. There are no costs to respondents other than their time. The total estimated annualized burden hours are 629.

Estimates of Annualized Burden Hours
Type of respondents | Number of respondents | Number of responses per respondent | Average burden per response (in hours) | Total annual burden hours
Principal Investigator Survey | 480 | 1 | 45/60 | 360
Awardee Semi-Structured Interview | 50 | 1 | 45/60 | 38
Student Survey | 301 | 1 | 30/60 | 151
Applicant Survey | 240 | 1 | 20/60 | 80

Dated: July 2, 2014.
Lawrence A. Tabak,
Deputy Director, National Institutes of Health.

[FR Doc. 2014-16072 Filed 7-8-14; 8:45 am]

BILLING CODE 4140-01-P